DEPARTMENT OF THE INTERIOR

Bureau of Land Management

[AZ-220-08-5101-ER-A235; AZA-34177]

Notice of Intent To Prepare an Environmental Impact Statement and Initiate Public Scoping for a Proposed Road (Sonoran Valley Parkway Project), Maricopa County, AZ

AGENCY: Bureau of Land Management, Interior.

ACTION: Notice.

SUMMARY: The Bureau of Land Management (BLM) will direct the preparation of an Environmental Impact Statement (EIS) and conduct public scoping meetings for a road right-of-way (ROW) proposal submitted by the City of Goodyear pursuant to 42 U.S.C. 4332, the National Environmental Policy Act (NEPA) of 1969, as amended. The proposed project includes the construction, operation, and maintenance of a two-lane roadway across public land in order to access the Goodyear Master Planning Area (MPA). The MPA encompasses approximately 67 square miles annexed in May 2007.

DATES: Publication of this notice initiates the 30-day public scoping process. Written comments must be submitted to the BLM within 30 days following the date the notice is published in the Federal Register. The BLM will host public scoping meetings. The dates, times, and locations of these meetings will be announced at least 15 days in advance through local news media and the BLM Arizona Web site: http://www.blm.gov/az/st/en.html.

ADDRESSES: Written comments and issues related to the proposed EIS can be mailed to or hand delivered to the District Manager, Bureau of Land Management, Phoenix District, 21605 North 7th Avenue, Phoenix, AZ 85027. They may also be faxed to the BLM at 623-580-5580.

FOR FURTHER INFORMATION CONTACT: Camille Champion, Project Manager, Bureau of Land Management, Phoenix District, 21605 North 7th Avenue, Phoenix, AZ 85027; 623-580-5526; Camille_Champion@blm.gov.

SUPPLEMENTARY INFORMATION: On February 7, 2008, the BLM received a ROW application from the City of Goodyear to construct and operate a 200-foot-wide roadway for the Sonoran Valley Parkway project. The length of the road would be between 12 and 16 miles long, depending on BLM-selected alternatives.

The roadway construction will commence at Section 13, T. 4 S., R. 1 W., Gila and Salt River Meridian, AZ, and run in a northwesterly direction approximately parallel to the existing El Paso Natural Gas corridor to the alignment of Rainbow Valley Road, then northerly along Rainbow Valley Road to tie into existing pavement at the intersection of Rainbow Valley Road and Riggs Road in Section 35, T. 2 S., R. 2 W., Gila and Salt River Meridian, AZ. A map of the proposed area will be available on the BLM Arizona website with the news release announcing the public meetings.

The EIS will consider the impacts of the Proposed Action, Alternative Actions, and the No-Action Alternative. The No-Action Alternative is required by Council on Environmental Quality regulation to be evaluated as part of the EIS, and will be fully addressed in the EIS as one of the alternatives. Specific alternatives and options will not be known until after data collection and public scoping has taken place.

The purpose of the public scoping process is to determine relevant issues, concerns, and ideas that will influence the scope of the environmental analysis and EIS alternatives. The public is invited to submit comments and resource information and identify issues or concerns to be considered in the preparation of the draft EIS. All comments received will aid the BLM in identifying alternatives and mitigating measures and will help assure that all issues are considered in the EIS.

Preliminary issues that have been identified by the BLM include: water resources; vegetation; endangered and threatened species; wildlife; soils and geology; recreation, cultural resources; land use; and socioeconomics and environmental justice. If you have specific concerns regarding the above issues, or have other concerns or issues that the BLM should consider in processing this proposed ROW, please provide them in writing at the address listed above or state them verbally at one of the upcoming public scoping meetings. Those individuals, organizations, and agencies with a known interest in the proposal have been sent a scoping letter requesting comments on the proposal. Persons wishing to be added to the mailing list for this EIS may do so by contacting the BLM at the above address.

It is important that those interested in the proposed action participate during the scoping and draft EIS review processes so that any substantive comments are provided at a time when the BLM can meaningfully consider them. Comments, including names and addresses of respondents, will be available for public review at the Phoenix District office during regular business hours, 7:30 a.m. to 4:15 p.m. Monday through Friday (except holidays), and may be published as part of the EIS or other related documents.

Before including your address, phone number, e-mail address, or other personal identifying information in your comment, you should be aware that your entire comment, including your personal identifying information, may be made publicly available at any time. While you can ask us in your comment to withhold your personal identifying information from public review, we cannot guarantee that we will be able to do so. If you do wish to withhold your name or address from public review or from disclosure under the Freedom of Information Act, you must clearly state this at the beginning of your written comment. Such requests will be evaluated and honored to the extent allowed. All submissions from organizations or businesses, and from individuals identifying themselves as representatives or officials of organizations or businesses, will be made available for public inspection in their entirety.

Authority: 40 CFR 1501.7.

Dated: March 20, 2008.
Teresa A. Raml,
District Manager.

[FR Doc. E8-6793 Filed 4-1-08; 8:45 am]

BILLING CODE 4310-32-P